DEPARTMENT OF LABOR

Agency Information Collection Activities; Submission for OMB Review; Comment Request; Reemployment Services and Eligibility Assessments (RESEA) Implementation Study

ACTION: Notice of availability; request for comments.

SUMMARY: The Department of Labor (DOL) is submitting this Chief Evaluation Office (CEO)-sponsored information collection request (ICR) to the Office of Management and Budget (OMB) for review and approval in accordance with the Paperwork Reduction Act of 1995 (PRA). Public comments on the ICR are invited.

DATES: The OMB will consider all written comments that the agency receives on or before May 11, 2023.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: The Chief Evaluation Office of the U.S. Department of Labor has contracted with Abt Associates and its partners—the Urban Institute, Capital Research Corporation, and the National Association of State Workforce Agencies—to conduct a five-year evaluation to develop strategies to support the evidence requirements for the Reemployment Services and Eligibility Assessment program that were enacted as part of the Bipartisan Budget Act of 2018 (Pub. L. 115-123). This data collection activity a reinstatement of a previously approved and completed data collection effort. The survey has been administered three times in prior years to state workforce agencies and this will be the fourth wave of the survey. Results from earlier waves documented different changes states were undertaking, particularly during different phases of COVID. Because all other data collection activities have been completed, the burden has decreased to reflect the change. For additional substantive information about this ICR, see the related notice published in the Federal Register on January 19, 2023 (88 FR 3439).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-CEO.

Title of Collection: Reemployment Services and Eligibility Assessments (RESEA) Implementation Study.

OMB Control Number: 1290-0029.

Affected Public: State, Local, and Tribal Governments.

Total Estimated Number of Respondents: 17.

Total Estimated Number of Responses: 17.

Total Estimated Annual Time Burden: 13 hours.

Total Estimated Annual Other Costs Burden: $0.

(Authority: 44 U.S.C. 3507(a)(1)(D))

Nicole Bouchet,
Senior PRA Analyst.

[FR Doc. 2023-07511 Filed 4-10-23; 8:45 am]

BILLING CODE 4510-26-P